DEPARTMENT OF HEALTH AND HUMAN SERVICES

Office of the Secretary

[Document Identifier: OS-0990-NEW-SCHIP]

Agency Information Collection Activities: Submission for OMB Review; Comment Request

Agency: Office of the Secretary, HHS.

In compliance with the requirement of section 3506(c)(2)(A) of the Paperwork Reduction Act of 1995, the Office of the Secretary, Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection.

Title of Information Collection: Survey of SCHIP State Administrators.

Form/OMB No.: OS-0990-NEW-SCHIP.

Use: The Survey of SCHIP Administrators will provide information about the broader context in which state programs operate, including the political and social context, policy discussions, lessons learned, and key issues facing the program in the next one or two years. This survey will complement our case studies of 10 states.

Frequency: One Time.

Affected Public: State, Local or Tribal Governments.

Annual Number of Respondents: 56.

Total Annual Responses: 56.

Average Burden Per Response: 59 minutes.

Total Annual Hours: 3,320.

To obtain copies of the supporting statement and any related forms for the proposed paperwork collections referenced above, or E-mail your request, including your address, phone number, OS document identifier, to John.Burke@hhs.gov, or call the Reports Clearance Office on (202) 690-8356. Written comments and recommendations for the proposed information collections must be mailed within 30 days of this notice directly to the OMB desk officer: OMB Human Resources and Housing Branch, Attention: Allison Eydt (OMB #0990-NEW-SCHIP), New Executive Office Building, Room 10235, Washington, DC 20503.

Dated: April 7, 2003.
John P. Burke III,
Paperwork Reduction Act Reports Clearance Officer, Office of the Secretary, Department of Health and Human Services.

[FR Doc. 03-9113 Filed 4-14-03; 8:45 am]

BILLING CODE 4150-04-P